NUCLEAR REGULATORY COMMISSION

[Docket No. 50-389]

Florida Power and Light Co., et al.; Notice of Withdrawal of Application for Amendment to Facility Operating License

The U.S. Nuclear Regulatory Commission (the Commission) has granted the request of Florida Power and Light Company, et al. (the licensee) to withdraw its May 22, 2003, application for proposed amendment to Facility Operating License No. NPF-16 for the St. Lucie Plant, Unit No. 2, located in St. Lucie County, Florida.

The proposed amendment would have revised the Technical Specifications pertaining to Emergency Core Cooling System subsystem flow balance surveillance testing.

The Commission had previously published a public notice of the proposed amendment to the operating license in the St. Lucie News, the Stuart News, the St. Lucie Tribune, and the Fort Pierce Tibune newspapers on May 27, 2003. However, by letter dated June 9, 2003, the licensee withdrew the proposed change.

For further details with respect to this action, see the application for amendment dated May 22, 2003, and the licensee's letter dated June 9, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or (301) 415-4737, or by email to pdr@nrc.gov.

Dated at Rockville, Maryland, this 30th day of June 2003.
For the Nuclear Regulatory Commission.
Brendan T. Moroney,
Project Manager, Section 2, Project Directorate II, Division of Licensing Project Management, Office of Nuclear Reactor Regulation.

[FR Doc. 03-17029 Filed 7-3-03; 8:45 am]

BILLING CODE 7590-01-P